DEPARTMENT OF LABOR

Office of the Secretary

Submission for OMB Review: Comment Request

October 11, 2005.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation contact Ira Mills on 202-693-4122 (this is not a toll-free number) or e-mail: Mills.Ira@dol.gov.

Comments should be sent to Office of Information and Regulatory Affairs, Attn: OMB Desk Officer for ETA, Office of Management and Budget, Room 10235, Washington, DC 20503, 202-395-7316 (this is not a toll free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submission of responses.

Agency: Employment and Training Administration (ETA).

Type of Review: Revision of a currently approved collection.

Title: Petition for Trade Adjustment Assistance and Alternative Trade Adjustment Assistance.

OMB Number: 1205-0342.

Frequency: On occasion.

Affected Public: Individuals or households; Business or other for-profit; and State, Local or Tribal Government.

Type of Response: Reporting.

Number of Respondents: 3,030.

Annual Responses: 3,030.

Average Response time: 20 minutes per respondent and 5 minutes for State agency for each petition received.

Total Annual Burden Hours: 1,263.

Total Annualized Capital/Startup Costs: 0.

Total Annual Costs (operating/maintaining systems or purchasing services): 0.

Description: Information on this form is required in order to make a determination on Trade Adjustment Assistance and Alternative Trade Adjustment Assistance petitions filed on behalf of service workers according to Section 223 of the Trade Act, as amended.

Ira L. Mills,
Departmental Clearance Officer.

[FR Doc. 05-20724 Filed 10-17-05; 8:45 am]

BILLING CODE 4510-30-P